ENVIRONMENTAL PROTECTION AGENCY

40 CFR Part 52

[TX-101-1-7394b; FRL-6969-2]

Approval and Promulgation of Implementation Plans; Texas; Post 96 Rate of Progress Plan, Motor Vehicle Emissions Budgets (MVEB) and Contingency Measures for the Houston/Galveston (HGA) Ozone Nonattainment Area

AGENCY: Environmental Protection Agency (EPA).

ACTION: Proposed rule.

SUMMARY: The EPA is proposing to give direct final approval to portions the Texas State Implementation Plan (SIP) revision submitted by the Governor of Texas on May 19, 1998 to meet the reasonable further progress requirements of the Clean Air Act (the Act). We are also approving the Motor Vehicle Emissions Budget (MVEB) established by the Reasonable Further Progress Plan, revisions to the Houston area's contingency measures and revisions to the 1990 base year emissions inventory for the Houston/Galveston nonattainment area. The EPA is proposing to take direct final action on revisions to the Texas State Implementation Plan.

In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time.

DATE: Written comments must be received by May 25, 2001.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Guy R. Donaldson, P.E., Air Planning Section (6PD-L), EPA Region 6, 1445 Ross Avenue, Dallas, Texas 75202-2733, telephone (214)665-6691.

SUPPLEMENTARY INFORMATION: This document concerns Post 96 Rate of Progress requirements in the Houston Galveston ozone nonattainment area. For further information, please see the information provided in the direct final action that is located in the “Rules and Regulations” section of this Federal Register publication.

Authority: 42 U.S.C. 7401 et seq.

Dated: April 5, 2001.
Jerry Clifford,
Acting Regional Administrator, Region 6.

[FR Doc. 01-10118 Filed 4-24-01; 8:45 am]

BILLING CODE 6560-50-P